SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections and a new collection.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers shown below.

(OMB),

Office of Management and Budget,

Attn: Desk Officer for SSA,

Fax: 202-395-6974,

E-mail address: OIRA_Submission@omb.eop.gov.

(SSA),

Social Security Administration, DCBFM,

Attn: Reports Clearance Officer,

1332 Annex Building,

6401 Security Blvd.,

Baltimore, MD 21235,

Fax: 410-965-6400,

E-mail address: OPLM.RCO@ssa.gov.

I. The information collection below is pending at SSA. SSA will submit it to OMB within 60 days from the date of this notice. To be sure we consider your comments, we must receive them no later than July 20, 2009. Individuals can obtain copies of the collection instrument by calling the SSA Reports Clearance Officer at 410-965-3758 or by writing to the e-mail address we list above.

1. Questionnaire about Special Veterans Benefits—0960-NEW. SSA will use the information collected on the SSA-2010 to determine continuing eligibility for Special Veterans Benefits and to determine how much (if any) of a foreign pension may be used to reduce or increase the amount of Social Security Special Veterans retirement benefits. The respondents will complete the SSA-2010 biannually so SSA can determine if benefits should be increased, decreased, suspended, or terminated, based on the data collected. The respondents are beneficiaries receiving Social Security Special Veterans retirement benefits.

Type of Request: Request for a new information collection.

Number of Respondents: 2,500.

Frequency of Response: 1.

Average Burden per Response: 20 minutes.

Estimated Annual Burden: 833 hours.

2. Request for Reconsideration—Disability Cessation—20 CFR 404.909, 416.1409—0960-0349. Claimants or their representatives use Form SSA-789-U4 to request that SSA reconsider a determination and to indicate whether they wish to appear at a disability hearing. The claimants can also use this form to submit any additional information/evidence for use in the reconsidered determination and to indicate if they will need an interpreter for the hearing. SSA will use the information on the completed form either to arrange for a hearing or to prepare a decision based on the evidence of record. The respondents are applicants or claimants for Social Security benefits or Supplemental Security Income (SSI) payments.

Type of Request: Extension of an OMB-approved information collection.

Number of Respondents: 30,000.

Frequency of Response: 1.

Average Burden per Response: 13 minutes.

Estimated Annual Burden: 6,500 hours.

3. Function Report Adult—Third Party—20 CFR 404.1512 & 416.912—0960-0635. Disability Determination Services (DDS) use the information from the SSA-3380-BK to determine eligibility for SSI and Social Security Disability Insurance (SSDI) claims. The information is an evidentiary source DDSs evaluators use to determine eligibility for SSI and SSDI claims. The respondents are third parties familiar with the functional limitations (or lack thereof) of claimants who apply for Social Security benefits and SSI disability payments.

Type of Request: Revision of an OMB-approved information collection.

Respondent types | Number of respondents | Frequency of response | Average burden per response (minutes) | Estimated annual burden (hours)
Individuals | 500,000 | 1 | 61 | 508,333
Private Sector | 500,000 | 1 | 61 | 508,333
Total | 1,000,000 |  |  | 1,016,666

4. Disability Hearing Officer's Decision—Title XVI Disabled Child Continuing Disability Review—20 CFR 404.913-404.914, 404.917, 416.994a, 416.1413-416.1414, 416.1417—0960-0657. Disability Hearing Officers (DHO) use the SSA-1209-BK to prepare and issue the disability determination for Title XVI disabled child continuing disability reviews. The form provides the framework for addressing the crucial elements of the case in a sequential and logical fashion. The completed form is the official document of the decision. A copy becomes the personalized portion of the notice to the claimant/representative. The respondents are DHOs in State DDSs.

Type of Request: Extension of an OMB-approved information collection.

Number of Respondents: 267.

Frequency of Response: 79.

Total Number of Responses: 21,093.

Average Burden per Response: 85 minutes.

Estimated Annual Burden: 29,882 hours.

5. Medical Consultant's Review of Mental Residual Functional Capacity Assessment—20 CFR 404.1520a, 404.1640, 404.1643, 404.1645, 416.920a—0960-0678. SSA uses Form SSA-392-SUP to facilitate the medical/psychological consultant's review of the Mental Residual Functional Capacity Form, SSA-4734-SUP. The SSA-392-SUP records the reviewing medical/psychological consultant's assessment of the SSA-4734-SUP. It also documents whether the reviewer agrees or disagrees with how the adjudicator completed the SSA-4734-SUP. Medical/psychological consultants prepare the SSA-392-SUP for each SSA-4734-SUP an adjudicator completes. The respondents are medical/psychological consultants who conduct a quality review of adjudicating components' completion of SSA's medical assessment forms.

Type of Request: Revision of an OMB-approved information collection.

Number of Responses: 45,000.

Frequency of Response: 1.

Average Burden per Response: 12 minutes.

Estimated Annual Burden: 9,000 hours.

6. Representative Payment Policies Regulation—20 CFR 404.2011, 404.2025, 416.611, 416.625—0960-0679. When SSA determines it is not in a beneficiary's best interest to receive payments directly, as it may cause substantial harm, the beneficiary may dispute SSA's decision. If the beneficiary disputes the decision, he or she provides SSA with information the agency will use to re-evaluate the decision. In addition, after SSA selects a representative payee, the payee must provide SSA information on his or her continuing relationship and responsibility for the beneficiary he or she represents and explain how he or she used the beneficiary's payments. Respondents are beneficiaries and representative payees.

Type of Request: Extension of an OMB-approved information collection.

CFR section | Number of respondents | Frequency of response | Average burden per response | Estimated annual burden
404.2011(a)(1), 416.611(a)(1) | 250 | 1 | 15 | 63
404.2025, 416.625 | 3,000 | 1 | 6 | 300
Totals | 3,250 |  |  | 363

7. Function Report Adult—20 CFR 404.1512 & 416.912—0960-0681. State DDSs use Form SSA-3373-BK to collect information about a disability applicant's or recipient's impairment-related limitations and ability to function. The information is an evidentiary source DDSs evaluators use to determine eligibility for SSI and SSDI claims. The respondents are Title II and Title XVI applicants (or current recipients undergoing redeterminations) for disability benefits.

Type of Request: Revision of an OMB-approved information collection.

Number of Respondents: 4,005,367.

Frequency of Response: 1.

Average Burden per Response: 61 minutes.

Estimated Annual Burden: 4,072,123 hours.

II. SSA has submitted the information collections we list below to OMB for clearance. Your comments on the information collections would be most useful if OMB and SSA receive them within 30 days from the date of this publication. To be sure we consider your comments, we must receive them no later than June 19, 2009. You can obtain a copy of the OMB clearance packages by calling the SSA Reports Clearance Officer at 410-965-3758 or by writing to the above e-mail address.

1. Surveys in Accordance with E.O. 12862 for the Social Security Administration—0960-0526. Under the auspices of E.O.12862, Setting Customer Service Standards, SSA conducts multiple customer satisfaction surveys each year. These voluntary customer satisfaction assessments include paper, Internet, and telephone surveys; mailed questionnaires, focus groups, and customer comment cards. The purpose of these questionnaires is to assess customer satisfaction with the timeliness, appropriateness, access, and overall quality of existing SSA services and proposed modifications/new versions of services. The respondents are recipients of SSA services (including most members of the public), professionals, and individuals who work on behalf of SSA beneficiaries.

Type of Request: Revision of an OMB-approved information collection.

| Number of respondents (burden for all activities within that year) | Frequency of response | Range of response times (minutes) | Burden (burden for all activities within that year; reported in hours)
Year 1 (June 2009-May 2010) | 1,400,001 | 1 | 5-90 | 123,000
Year 2 (June 2010-May 2011) | 1,400,351 | 1 | 5-90 | 123,058
Year 3 (June 2011-June 2012) | 1,400,001 | 1 | 5-90 | 123,000
Totals | 4,200,353 |  |  | 369,058

2. Youth Transition Process Demonstration Evaluation Data Collection—0960-0687.

Background

The purpose of the Youth Transition Demonstration (YTD) project is to help young people with disabilities make the transition from school to work. While participating in the project, youth can continue to work and/or continue their education because SSA waives certain disability program rules and offers services to youth who are receiving disability benefits or have a high probability of receiving them. We are currently implementing YTD projects in eight sites across the country. The evaluation will produce empirical evidence on the effects of the waivers and project services including educational attainment, employment, earnings, and receipt of benefits by youth with disabilities, but also on the Social Security Trust Fund and Federal income tax revenues. This project is authorized by Sections 1110 and 234 of the Social Security Act.

Project Description

Given the importance of estimating YTD effects as accurately as possible, we will evaluate the project using rigorous analytic methods based on randomly assigning youth to a treatment or control group. We will conduct several data collections. These include (1) baseline interviews with youth and their parents or guardians prior to random assignment; (2) follow-up interviews at 12 and 36 months after random assignment; (3) interviews and/or roundtable discussions with local program administrators, program supervisors, and service delivery staff; and (4) focus groups of youths, their parents, and service providers. The respondents are youths with disabilities enrolled in the project; their parents or guardians; program staff; and service providers.

Type of Request: Revision of an existing OMB Clearance.

Data collection year | Collection | Number of respondents | Responses per respondent | Average burden per response (hours) | Total response burden (hours)
2009 | Baseline | 1,895 | 1 | 0.55 | 1,042
| Informed Consent | 1,895 | 1 | 0.083 | 157
| 12 Month Follow-up | 1,518 | 1 | 0.83 | 1,260
| In-depth Interviews | 120 | 1 | 0.42 | 50
| Focus Group | 150 | 1 | 1.5 | 225
| Program Staff/Service Provider | 80 | 1 | 1 | 80
| 36 Month Follow-up | 364 | 1 | 0.83 | 302
Total 2009 |  | 6,022 |  |  | 3,116

3. The Mental Health Treatment Study (MHTS)—0960-0726.

Background

Because of advances in medical treatment, assistive devices, changes in the way we view those with disabilities, and legislation designed to assure access to employment, SSA is taking on an increasingly active role in assisting Social Security disability beneficiaries who want to return to work. As a result, SSA developed the MHTS under Section 234 of the Social Security Act (42 U.S.C. 434), which gives the Commissioner of Social Security the authority to carry out experiments and demonstration projects designed to determine the relative advantages and disadvantages of interventions that facilitate a beneficiary's return to work. Part of the agency's role involves finding ways to promote work and increase independence among disability beneficiaries. SSA received additional support for this study in February 2001, through President Bush's New Freedom Initiative-a comprehensive program whose primary goal is to promote the full participation of individuals with disabilities in all areas of society. The aim of the initiative is to help Americans with disabilities by increasing their access to effective technologies, expanding educational opportunities, increasing the ability of Americans with disabilities to integrate into the workforce, and promoting increased access into daily community life. This initiative provided SSA with the support that will enable beneficiaries to maximize their self-sufficiency and potentially enter or reenter the workforce.

MHTS Collection

The MHTS implemented a randomized trial study that will evaluate the effect of the intervention on employment and functional outcomes for SSDI beneficiaries with a primary mental impairment of schizophrenia or affective disorder. SSA is currently implementing the MHTS in 22 demonstration sites across the United States, with one site having two locations. The study participants are SSDI beneficiaries with varying clinical and demographic characteristics, employment histories, and, sometimes, additional medical impairments. The study design has two arms: treatment (special services), and control (regular services) groups. SSA randomly assigned study participants to the treatment or control group. Each treatment or control recipient will participate for a total of 24 months following enrollment. The treatment intervention activities include the following: diagnostic psychiatric assessment, comprehensive medical assessment, systematic medication management, supporting employment, individualized clinical treatment, supplemental health insurance, coordination and payment of recipients' claims, as well as quality assurance mechanisms and adherence to treatment guidelines, with subsequent training to improve deficiencies as identified.

The comprehensive assessment of the MHTS outcomes will identify which, if any, of the interventions resulted in successful employment and functioning outcomes, and identify the characteristics of the interventions that contributed to the success. This information enables SSA to develop better ways to improve services to current and future recipients. SSA also uses this information to guide any potential changes to program rules to allow for better coordination among other Federal and state programs.

Type of Request: Revision of an OMB-approved information collection.

Questionnaire | Number of respondents ¹ | Frequency of response | Number of responses | Burden per response (minutes) | Total annual burden (hours)
Screener Estimated Burden
Screener Survey | 2,265 | 1 | 2,265 | 4 | 151
Estimated Burden for Treatment Group
Baseline | 1,121 | 1 | 1,121 | 47 | 878
Quarterly | 1,121 | 7 | 7,847 | 18 | 2,354
Follow-up | 1,121 | 1 | 1,121 | 30 | 561
Total |  |  | 10,089 |  | 3,793
Estimated Burden for Control Group
Baseline | 1,117 | 1 | 1,117 | 47 | 875
Quarterly | 1,117 | 7 | 7,819 | 7 | 912
Follow-up | 1,117 | 1 | 1,117 | 30 | 559
Total |  |  | 10,053 |  | 2,346
Total Estimated Burden for All Study Activities
Screener Survey | 2,265 | 1 | 2,265 |  | 151
Treatment Group | 1,121 | 9 | 10,089 |  | 3,793
Control Group | 1,117 | 9 | 10,053 |  | 2,346
Total |  |  | 22,407 |  | 6,290
¹ The number of respondents may reduce over time due to study withdrawals.

Dated: May 14, 2009.
John Biles,
Reports Clearance Officer, Center for Reports Clearance, Social Security Administration.

[FR Doc. E9-11715 Filed 5-19-09; 8:45 am]

BILLING CODE 4191-02-P